DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on April 13 and 14, 2000 at Nez Perce Tribal Headquarters, Main St., and Beaver Grade, Lapwai, ID. The meeting will begin at 9 a.m. and continue until 5 p.m. the first day and will begin at 8 a.m. and continue until 4 p.m. on the second day. Agenda items to be covered include: (1) Review draft CMP alternatives and, (2) Open public forum. All meetings are open to the public. Public comments will be received at 1:30 p.m. on April 13, 2000.

FOR FURTHER INFORMATION CONTACT: Direct questions regarding this meeting to Kendall Clark, Area Ranger, USDA, Hells Canyon National Recreation Area, 88401 Highway 82, Enterprise, OR 97828, 541-5501.

Dated: March 15, 2000.
John C. Schuyler,
Deputy Forest Supervisor.

[FR Doc. 00-6991 Filed 3-20-00; 8:45 am]

BILLING CODE 3410-11-M